DEPARTMENT OF ENERGY

Federal Energy Regulatory Commission

[Project No., 5766-008]

TKO Power, Inc., TKO Power, LLC; Notice of Transfer of Exemption

1. By letter filed April 24, 2015,¹ William B. Conway, Jr., Counsel for Enel Green Power North America, Inc. (EGPNA),² informed the Commission that the exemption from licensing for the Nichols Project, FERC No. 5766, originally issued April 22, 1982,³ has been transferred to TKO Power, LLC, an affiliate of Enel Green Power. The project is located on South Fork Bear Creek in Shasta County, California. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 19 FERC ¶ 62,111, Order Granting Exemption from Licensing of a Small Hydroelectric Project of 5 MW or Less (1982).

2. TKO Power, LLC is now the exemptee of the Nichols Project, FERC No. 5766. All correspondence should be forwarded to: TKO Power, LLC, c/o Enel Green Power North America, Inc., Attn: General Counsel, 1 Tech Drive, Suite 220, Andover, MA 01810.

Dated: May 19, 2015.
Kimberly D. Bose,
Secretary.

[FR Doc. 2015-12607 Filed 5-22-15; 8:45 am]

BILLING CODE 6717-01-P